DEPARTMENT OF HEALTH AND HUMAN SERVICES

Centers for Disease Control and Prevention

Domestic Violence Prevention Enhancement and Leadership Through Alliances (DELTA) Program

Announcement Type: New.

Funding Opportunity Number: RFA 05039.

Catalog of Federal Domestic Assistance Number: 93.136.

Key Dates:

Application Deadline: April 26, 2005.

I. Funding Opportunity Description

Authority: U.S. Code Title 42 Chapter 110 Section 10418 Demonstration Grants for Community Initiatives.

Background: Intimate Partner Violence (IPV): The long-term (10+ years) health impact of the Domestic Violence Prevention Enhancement and Leadership Through Alliances (DELTA) Program is a reduction in the incidence (i.e., number of new cases) of IPV in communities that receive DELTA funding and support. The definition of IPV that informs the DELTA Program derives from two CDC publications Intimate Partner Violence Surveillance: Uniform Definitions and Recommended Data Elements (Saltzman, Fanslow, McMahon, & Shelley, 1999) and the Morbidity and Mortality Weekly Report, 49 (2000). Specifically, these definitions define IPV as including physical violence, sexual violence, threats of physical or sexual violence, psychological/emotional abuse and stalking. The types of intimate partnerships included are current spouses, former spouses, current non-marital partners, and former non-marital partners. There is no minimum time requirement for a relationship to be considered an intimate partner relationship as first dates and long-term boyfriend and girlfriend relationships are included under the term non-marital partners. Additionally, being an intimate partner does not require current cohabitation or sexual activities between two individuals. Intimate partners may also be of the same-sex or opposite sex. Many practitioners and researchers use the term domestic violence rather than the term intimate partner violence to refer to the same public health problem. However, the DELTA Program uses the term intimate partner violence to clarify that this program does not address other public health problems that are also referred to as domestic violence (i.e., child abuse and elder abuse by relatives other than an intimate partner).

Research has indicated that IPV exists on a continuum from episodic violence to battering (Johnson, 1995). Battering IPV occurs when one partner seeks to develop and maintain power and control over the other partner, while episodic violence occurs with less frequency and intensity than battering IPV, and does not include one partner seeking to develop and maintain power and control over the other partner. DELTA seeks to address the entire continuum of IPV, not just the type of IPV referred to as battering.

The magnitude of the public health problem of IPV in the United States can be understood in terms of fatalities and assaults. The Federal Bureau of Investigation (FBI) (2001) Supplemental Homicide Reports indicate that in 1999 more than 1,600 women and men died at the hands of an intimate partner. Of these homicides, more than 1,200 or 75 percent were women. The IPV homicides represented 10.6 percent of all homicides in the United States, 32.1 percent of all female homicides, and 3.6 percent of all male homicides that year. In terms of nonfatal assaults, Tjaden and Thoennes (2000) estimate, based on data from the National Violence Against Women Survey, 25 million women and 7 million men have experienced an IPV assault at some point in their lives, where IPV assault includes physical assaults, rape and stalking behavior.

Coordinated Community Responses (CCR): Initial efforts to address IPV in the United States focused on developing stand-alone interventions such as battered women's shelters, protective order projects, and mandatory arrest policies (American Prosecutors Research Institute & National Council of Juvenile and Family Court Judges, 1998). The lack of coordination among stand-alone projects often had the unintended consequence of decreasing rather than increasing a victim's safety. For instance, a pro-arrest policy by a police department might be undermined by a lack of pro-prosecution policy by the prosecutor's office. In this case, the perpetrator may use violence against his partner with the knowledge that he will experience the minor consequence of arrest and a night in jail rather than the more severe consequence of long-term probation and/or prison as the prosecutor will refuse to prosecute the case. Accordingly, in the late 1970s and early 1980s the CCR model, or local IPV coordinating coalition, was developed to coordinate a community's public and private IPV intervention resources and services. The CCR definition that informs the DELTA Program is: an organized effort, representing diverse service sectors (e.g., public health, victim services and law enforcement, faith) and populations of a local community, to prevent and intervene in IPV. CCRs work to integrate prevention and intervention strategies and services through increased communications, cooperation, and coordination between participating service sector and populations. A CCR may be formally organized (i.e., operating as a 501(c)(3) nonprofit organization or as a government council) or informally organized (i.e. operating without legal status as a group of concerned citizens). Task forces, coordinating councils, and coalitions operating within a defined geographical area to coordinate services that prevent or intervene in IPV are considered to be CCRs.

Prevention: As noted above, when developed two decades ago, CCRs were initially organized to coordinate local community IPV intervention services. Today, they still maintain a focus on intervening in IPV or reducing the number of re-assaults, rather than preventing IPV from initially occurring. Thus, the DELTA Program seeks to integrate prevention principles, concepts and practices into local CCRs that address IPV, such that the incidence of IPV (i.e., number of new cases) is reduced. These prevention principles, concepts and practices include the following:

• Preventing first-time perpetration and first-time victimization,

• Reducing risk-factors associated with IPV perpetration or victimization,

• Promoting protective-factors that reduce the likelihood of IPV perpetration or victimization,

• Evidence-based prevention program planning,

• Use of behavior and social change theories in prevention program planning,

• Addressing all levels of the social ecology (i.e. individual, relationship, community, and society) in prevention program planning and evaluation,

• Evaluating prevention programs and activities and using results to inform future prevention plans, programs and activities.

DELTA Structure: To develop the DELTA Program structure, the research literature on community coalitions and CCRs was reviewed. Specifically, Florin, Mitchell and Stevenson (1993) note that when there are multiple local coalitions addressing the same health issue within the same state, an organization, known as an intermediary organization, is needed. An organization with statewide reach and influence is needed to provide these local coalitions with training, individualized technical assistance, and funding in order to support their development and adoption of state-of-the-field practices. In the case of DELTA, an intermediary organization is needed to provide training, technical assistance and funding to CCRs to support their adoption of state-of-the-field IPV prevention principles, concepts and practices. Thus, the DELTA Program seeks to fund one nonprofit organization per state to provide prevention-focused training, technical assistance, and funding to local CCRs throughout its state. As CDC's environmental scan of CCRs operating in 14 states revealed that most CCRs are not formally organized, a local nonprofit organization in each community will act as the fiscal agent to receive local DELTA funding that will support the local CCR's adoption of prevention practices, concepts and practices. In order to receive DELTA funding, cooperative agreement applicants must have at least 18 months experience in providing prevention focused training and technical assistance to, and at least 12 months monitoring and funding of local CCRs, as this RFA is not intended to support initial capacity building in these areas. Local fiscal agents and their respective CCRs are required to have at least 12 months of prevention program planning experience, as this RFA is not intended to support initial prevention program planning capacity-building efforts at the local level.

The structure of the DELTA Program requires applicants to contract with an evaluator. This evaluator will be expected to cooperate with the CDC's cross-site evaluator, adhere to the steps and terminology in the CDC's publication “Framework for Program Evaluation in Public Health,” and work from an “empowerment evaluation” framework to:

• Assist in the development of the state-level Intimate Partner Progress Report and Prevention Plan.

• Assist local fiscal agents and their CCRs in their development of an Intimate Partner Violence Progress Report and Prevention Plan.

• Increase state and local capacity regarding evidence-based planning, use of behavior change and social change theories, and evaluation by teaching and supporting DELTA participants in the use of these concepts as they develop their Intimate Partner Violence Progress Report and Prevention Plan.

• Leave an infrastructure of training materials, databases, report templates, data collection protocols, etc. such that state and local levels are poised to update their Intimate Partner Violence Progress Report and Prevention Plan on a bi-annual basis.

Purpose: The purpose of the DELTA program is to integrate prevention principles, concepts and practices into local CCRs that address IPV, such that the incidence of IPV (i.e., number of new cases) is reduced. This program addresses the “Healthy People 2010” focus area(s) of Injury and Violence Prevention.

Measurable outcomes of the program will be in alignment with the following performance goal for the National Center for Injury Prevention and Control (NCIPC): Increase the capacity of injury prevention and control programs to address prevention of injuries and violence.

This announcement is only for non-research activities supported by CDC/ATSDR. If research is proposed, the application will not be reviewed. For the definition of research, please see the CDC Web site at the following Internet address: http://www.cdc.gov/od/ads/opspoll1.htm.

Activities:

Awardee activities for this program are as follows:

Activities to build capacity in local CCRs:

• Provide prevention-focused training, technical assistance and funding to local CCRs and their fiscal agents. Prevention-focused training and technical assistance may be provided to local CCRs and other local programs that are not direct beneficiaries of DELTA Program funding, but this training and technical assistance should not divert resources from full support of CCRs and their fiscal agents that receive DELTA support. Prevention-focused training and technical assistance should meet the definition of prevention principles, concepts and practices listed in Section I.

• Provide training and technical assistance to local CCRs and their fiscal agents on the topics of community organization, CCR development and maintenance, and strategic planning. This type of training and technical assistance may be provided to local CCRs and other local programs that are not direct beneficiaries of DELTA Program funding, but this training and technical assistance should not divert resources from the full support of CCRs and fiscal agents that receive DELTA support.

• Contract with an in-state evaluator to support local CCRs and their fiscal agents in the development of their Intimate Partner Violence Progress Report and Prevention Plan.

• Assist and monitor local DELTA CCRs and their fiscal agents in the development and publication of an Intimate Partner Violence Progress Report and Prevention Plan by March 30, 2008. The development of this publication is a requirement for local fiscal agents and local CCRs that receive DELTA Program funding. Local CCRs and their fiscal agents should be poised to update and revise this publication on a bi-annual basis as this activity is intended to increase the local CCR's capacity and continued use of prevention principles, concepts and practices, especially evidence-based planning, behavior change theories, and evaluation.

• Assist local fiscal agents in institutionalizing prevention principles, concepts and practices within their own agencies beyond the knowledge and skills of the staff member(s) responsible for the local implementation of the DELTA Program.

Activities to build capacity within Applicant's Organization:

• Participate in training and technical assistance activities and opportunities directly related to the DELTA Program provided by CDC and training and technical assistance activities and opportunities indirectly related to the DELTA Program (i.e., UNC PREVENT) where appropriate and feasible.

• Institutionalize prevention principles, concepts and practices within applicant's own organization beyond the knowledge and skills of the DELTA Program staff member.

• Monitor progress of local CCRs and their fiscal agents receiving DELTA Program funding.

• Attend and participate in technical assistance and planning meetings coordinated by CDC for all DELTA Program cooperative agreement applicants.

• Compile and disseminate DELTA Program results within their state.

Activities to Build Capacity Across Applicant's State:

• Organize and facilitate a DELTA Steering Committee to develop and publish a state-level Intimate Partner Violence Progress Report and Prevention Plan by June 30, 2008. The Steering committee should be representative of the racial, ethnic and gender diversity within the state. As prevention of perpetration of IPV by men is a priority area for the Division of Violence Prevention due to research indicating that the majority of IPV is perpetrated by men, the Steering Committee should include individuals who can inform the development and implementation of prevention activities and programs directed at men and boys. CDC considers the participation of state health department staff who oversee violence against women programs in the Steering Committee and in the development of this report as paramount.

• Contract with an in-state evaluator to support the DELTA Steering Committee in the development of the state-level Intimate Partner Violence Progress Report and Prevention Plan.

Activities to build capacity across the nation:

• Collaborate with the CDC, other DELTA cooperative agreement applicants, and the CDC-selected evaluation/training contractors in establishing mutually-agreed upon goals and objectives; the development and implementation of the cross-site evaluation and the translation of prevention practices; concepts, and principles for use by local CCRs and local fiscal agents.

• Disseminate DELTA prevention principles, concepts and practices and lessons learned by presenting at a minimum of one state-wide conference that addresses IPV in other non-DELTA states in Program Periods two or three.

• Disseminate DELTA prevention principles, concepts and practices and lessons learned by presenting at a minimum of one national conference that addresses IPV in Program Periods two or three.

• Attend and participate in the National Center for Injury Prevention and Control Conference in Washington, DC in 2007.

In a cooperative agreement, CDC staff is substantially involved in the program activities, above and beyond routine grant monitoring.

CDC Activities for this program are as follows:

• Participate in the translation and/or identification of prevention principles, concepts, practices, and measures into prevention-focused evidenced-based planning, activities, strategies, policies and evaluation practices that can be integrated into the CCR model.

• Provide guidance on how to hire an evaluation contractor and approving the hire of applicant's evaluation contractor.

• Approve the staff and contractors funded through the DELTA Program.

• Contract with a third-party to conduct a cross-site evaluation.

• Coordinate capacity-building prevention-focused training and technical assistance for DELTA grantees by contracting with a third-party(ies).

• Provide assistance in the management and technical performance of the implementation of prevention principles, concepts, practices, leadership, activities, strategies and policies at the state and local level.

• Arrange for information sharing among DELTA grantees.

• Analyze cross-site evaluation/research information for presentation and publication.

II. Award Information

Type of Award: Cooperative Agreement.

CDC anticipates funding this Program Announcement in two cycles depending on availability of funds.

Cycle 1: Fiscal Year Funds: 2005.

Approximate Total Funding: $1.6 million. (This amount is an estimate, and is subject to availability of funds.)

Approximate Number of Awards: 9.

Approximate Average Award: $187,000. (This amount is for the first 12-month budget period, and includes both direct and indirect costs.)

Floor of Award Range: $125,000. (CDC will not make an award smaller than the floor amount.)

Ceiling of Award Range: $220,000. (This ceiling is for the first 12-month budget period. CDC will not make an award for larger than the ceiling amount.)

Cycle 2: Fiscal Year Funds: 2006.

Approximate Total Funding: $1,070,000. (This amount is an estimate, and is subject to availability of funds.)

Approximate Number of Awards: 5.

Approximate Average Award: $214,000. (This amount is for the first 12-month budget period, and includes both direct and indirect costs.)

Floor of Award Range: $168,000. (CDC will not make an award smaller than the floor amount.)

Ceiling of Award Range: $255,000. (This ceiling is for the first 12-month budget period. CDC will not make an award for larger than the ceiling amount.)

Anticipated Award Date(s): September 30, 2005 (Cycle 1) and January 30, 2006 (Cycle 2).

Budget Period Length: 12 months.

Project Period Length: Three years.

Throughout the project period, CDC's commitment to continuation of awards will be conditioned on the availability of funds, evidence of satisfactory progress by the applicant (as documented in required reports), and the determination that continued funding is in the best interest of the Federal Government.

III. Eligibility Information

III.1. Eligible Applicants

Applications may be submitted by nonprofit private organizations that are current recipients of the Domestic Violence Prevention Enhancement and Leadership Through Alliances (DELTA) Program, funding opportunity number 02122. The authorizing statute, 42 U.S.C. 10418, requires that funding shall only be awarded to nonprofit private organizations organized for the purpose of coordinating community projects for the intervention and prevention of domestic violence. Only one application per state will be awarded.

The competition for this cooperative agreement is being limited to current DELTA Program recipients for the following reasons:

1. The three-year program period of the DELTA Program, funding opportunity number 02122, was a planning period where CDC, DELTA grantees, local fiscal agents and CCRs developed the prevention framework that is to be integrated into the coordinated community response model.

2. The three year program period for this current DELTA cooperative agreement will be an implementation and evaluation period where DELTA grantees, local fiscal agents and CCRs start implementing the prevention framework and evaluating their results.

3. The evaluation for the DELTA Program, funding opportunity number 02122, is a dissemination evaluation that is assessing the development of prevention capacity within CCRs. The valid measure of prevention capacity building relies on local CCRs being given the opportunity to implement and evaluate their prevention efforts. Thus, a second program period of three years is needed in order for the evaluation to produce reliable, valid and useful results that can inform the field.

As CDC's environmental scan of CCRs operating in 14 states revealed that most CCRs are not formally organized, a local nonprofit organization in each community will act as the fiscal agent to receive local DELTA funding that will support the local CCR's adoption of prevention practices, concepts and practices. In order to receive DELTA funding, cooperative agreement applicants must have at least 18 months experience in providing prevention focused training and technical assistance to, and at least 12 months monitoring and funding of local CCRs, as this RFA is not intended to support initial capacity building in these areas. Local fiscal agents and their respective CCRs are required to have at least 12 months of prevention program planning experience, as this RFA is not intended to support initial prevention program planning capacity-building efforts at the local level. These fiscal agents shall be member agencies of their respective CCRs and understand that the DELTA Program is to be community-owned by the CCR and not agency-driven by the fiscal agent.

III.2. Cost Sharing or Matching

The DELTA Program project period is three years. For the third year of this project period, DELTA cooperative agreement applicants will be required to cost share or match 15 percent of the program's cost. This is a fixed percentage and is non-negotiable. As cost sharing or matching is not required until the third year of the project period, the applicant's documentation verifying their ability to meet this requirement is not a responsiveness criterion (i.e., applications that do not propose matching or cost sharing as specified will not be returned without review). Thus, an applicants' documentation verifying their ability to meet this requirement is not included in the evaluation criteria and applicants are not asked to provide any pre-award documentation verifying their ability to meet this cost sharing/matching requirement. The applicant will be expected to meet at least half of the 15 percent cost share or match requirement through cash contributions. In-kind contributions may provide no more than half of the 15 percent cost share or match requirement.

The regulatory basis for the cost share or matching is 45 CFR parts 74 and 92 as interpreted in the Awarding Agency Grants Administration Manual 3.02.102-3A.1.

By requiring a 15 percent cost share or match during the final year of the project period, CDC seeks to encourage DELTA cooperative agreement applicants to identify community and state resources that can sustain DELTA activities within the state once the three year DELTA Program period ends. As CDC is only requiring a 15 percent cost share or match, CDC believes this will not unduly burden DELTA cooperative agreement applicants, while encouraging them to actively plan the sustainability of the DELTA Program within their state. CDC also believes that the DELTA Program within each state will have a greater likelihood of success if cooperative agreement applicants contribute to the costs of the project by obtaining state and local support.

III.3. Other

If you request a funding amount greater than the ceiling of the award range, your application will be considered non-responsive, and will not be entered into the review process. You will be notified that your application did not meet the submission requirements.

Special Requirements

If your application is incomplete or non-responsive to the special requirements listed in this section, it will not be entered into the review process. You will be notified that your application did not meet submission requirements.

• Late applications will be considered non-responsive. See section “IV.3. Submission Dates and Times” for more information on deadlines.

• Non-profit 501 (c)(3) status—provide copy of IRS determination letter with application.

• Note: Title 2 of the United States Code Section 1611 states that an organization described in Section 501(c)(4) of the Internal Revenue Code that engages in lobbying activities is not eligible to receive Federal funds constituting an award, grant, or loan.

IV. Application and Submission Information

IV.1. Address To Request Application Package

To apply for this funding opportunity use application form PHS 5161-1.

Electronic Submission: CDC strongly encourages you to submit your application electronically by utilizing the forms and instructions posted for this announcement on http://www.Grants.gov, the official Federal agency wide E-grant Web site. Only applicants who apply online are permitted to forego paper copy submission of all application forms.

Paper Submission: Application forms and instructions are available on the CDC Web site, at the following Internet address: http://www.cdc.gov/od/pgo/forminfo.htm.

If you do not have access to the Internet, or if you have difficulty accessing the forms on-line, you may contact the CDC Procurement and Grants Office Technical Information Management Section (PGO-TIM) staff at: 770-488-2700. Application forms can be mailed to you.

Program Technical Assistance Conference Call

There will be a Program Technical Assistance Conference Call on Thursday, March 3, 2005 from 3-4:30 p.m. EST. Please e-mail Pam Cox at pcox@cdc.gov by February 28, 2005 to request the conference call number and code. The conference call number and code will be provided via e-mail.

IV.2. Content and Form of Submission Application

Electronic Submission: You may submit your application electronically at: http://www.grants.gov. Applications completed online through Grants.gov are considered formally submitted when the applicant organization's Authorizing Official electronically submits the application to http://www.grants.gov. Electronic applications will be considered as having met the deadline if the application has been submitted electronically by the applicant organization's Authorizing Official to Grants.gov on or before the deadline date and time.

It is strongly recommended that you submit your grant application using Microsoft Office products (e.g., Microsoft Word, Microsoft Excel, etc.). If you do not have access to Microsoft Office products, you may submit a PDF file. Directions for creating PDF files can be found on the Grants.gov Web site. Use of file formats other than Microsoft Office or PDF may result in your file being unreadable by our staff.

CDC recommends that you submit your application to Grants.gov early enough to resolve any unanticipated difficulties prior to the deadline. You may also submit a back-up paper submission of your application. Any such paper submission must be received in accordance with the requirements for timely submission detailed in Section IV.3. of the grant announcement. The paper submission must be clearly marked: “BACK-UP FOR ELECTRONIC SUBMISSION.” The paper submission must conform with all requirements for non-electronic submissions. If both electronic and back-up paper submissions are received by the deadline, the electronic version will be considered the official submission.

Paper Submission: If you plan to submit your application by hard copy, submit the original and two hard copies of your application by mail or express delivery service. Refer to section IV.6. Other Submission Requirements for submission address.

You must submit a project narrative with your application forms. The narrative must be submitted in the following format:

• Maximum number of pages: 25—If your narrative exceeds the page limit, only the first 25 pages will be reviewed.

• Font size: 12 point unreduced.

• Double spaced.

• Paper size: 8.5 by 11 inches.

• Page margin size: One inch.

• Printed only on one side of page.

• Held together only by rubber bands or metal clips; not bound in any other way.

Your narrative should address activities to be conducted over the entire three year project period, and must include the following items in the order listed:

• Abstract (no more than one page).

• Organization history and description (no more than one page).

• Organization's agreement to use the definition of IPV provided in this RFA as the basis for DELTA Program activities and implementation.

• Experience (minimum of 18 months) in providing prevention-focused training and technical assistance to CCRs and local fiscal agents (no more than two pages).

• Experience (minimum of 12 months) in funding and monitoring local fiscal agents and their CCRs regarding their implementation of prevention principles, concepts and practices (no more than two pages).

• Implementation Plan for DELTA Program: Local level. Provide a logic model and narrative of no more than four pages describing the applicant's plans to build capacity in local CCRs in accordance with the Activities section of this program announcement. For assistance on how to design a logic model, access CDC's Web site: http://www.cdc.gov/nccdphp/dnpa/physical/handbook/step2.htm. In regard to outcomes for the logic model and narrative, due to the DELTA Program project period being three years, applicants should only include short-term and intermediate outcomes (i.e., capacity building) in their logic model and not long-term outcomes (i.e., a reduction in IPV incidence and prevalence). The logic model should list only one objective and a quantitative performance measure of effectiveness for that objective that will be used to measure the intended short-term and intermediate outcomes over the program period. Measures of effectiveness must relate to the performance goals stated in the “Purpose” section of this announcement: Increase the capacity of injury prevention and control programs to address the prevention of injuries and violence. Measures must be objective and quantitative, and must measure the intended outcome. The narratives that accompany the logic models should elaborate and clarify the timelines, inputs, activities, outputs, outcomes, and performance measures of effectiveness listed in the logic model diagram.

• Implementation Plan for DELTA Program: State level. Provide a logic model and narrative of no more than four pages describing the applicant's plans to build capacity at the state level in accordance with the Activities section of this program announcement. In regard to outcomes for the logic model and narrative, due to the DELTA Program project period being three years, applicants should only include short-term and intermediate outcomes (i.e., capacity-building) in their logic model and not long-term outcomes (i.e., a reduction in IPV incidence and prevalence). The logic model should list only one objective and a quantitative performance measure of effectiveness for that objective that will be used to measure the intended short-term and intermediate outcomes over the program period. Measures of effectiveness must relate to the performance goals stated in the “Purpose” section of this announcement: Increase the capacity of injury prevention and control programs to address the prevention of injuries and violence. Measures must be objective and quantitative, and must measure the intended outcome. The narratives that accompany the logic models should elaborate and clarify the timelines, inputs, activities, outputs, outcomes, and performance measures of effectiveness listed in the logic model diagram.

• Implementation Plan for DELTA Program: Organizational level. Provide a logic model and narrative of no more than four pages describing the applicant's plans to build capacity within its own organization in accordance with the Activities section of this program announcement. In regard to outcomes for the logic model and narrative, due to the DELTA Program project period being three years, applicants should only include short-term and intermediate outcomes (i.e., capacity building) in their logic models and not long-term outcomes (i.e., reduction in IPV incidence and prevalence). The logic model should list only one objective and a quantitative performance measure of effectiveness for the objective that will be sued to measure the intended short-term and intermediate outcomes over the program period. Measures of effectiveness must relate to the performance goals stated in the “Purpose” section of this announcement: Increase the capacity of injury prevention and control programs to address prevention of injuries and violence. Measures must be objective and quantitative, and must measure the intended outcome. The narratives that accompany the logic models should elaborate and clarify the timelines, inputs, activities, outputs, outcomes and performance measures of effectiveness listed in the logic model diagram.

• Implementation Plan for DELTA Program: National level. Provide a logic model and narrative of no more than four pages describing the applicant's plans to build capacity within its own organization in accordance with the Activities section of this program announcement. In regard to outcomes for the logic model and narrative, due to the DELTA Program project period being three years, applicants should only include short-term and intermediate outcomes in their logic models (i.e., capacity building) and not long-term outcomes (i.e., reduction in IPV incidence and prevalence). The logic model should list only one objective and a quantitative performance measure of effectiveness for the objective that will be sued to measure the intended short-term and intermediate outcomes over the program period. Measures of effectiveness must relate to the performance goals stated in the “Purpose” section of this announcement: Increase the capacity of injury prevention and control programs to address prevention of injuries and violence. Measures must be objective and quantitative, and must measure the intended outcome. The narratives that accompany the logic models should elaborate and clarify the timelines, inputs, activities, outputs, outcomes and performance measures of effectiveness listed in the logic model diagram.

• Summary (no more than one page).

• Budget Justification (not counted within stated page limit).

Additional required information should be included in the application appendices. The appendices will not be counted toward the narrative page limit. The additional required information is:

• Appendix A: Two letters of support from local CCR members, each representing a different CCR, describing the prevention-focused training and technical assistance provided by the applicant over the past 18 months.

• Appendix B: Copy of the application used by the applicant to award funds to local fiscal agents and CCRs to implement prevention principles, concepts and practices.

• Appendix C: Copy of IRS determination letter.

You are required to have a Dun and Bradstreet Data Universal Numbering System (DUNS) number to apply for a grant or cooperative agreement from the Federal government. The DUNS number is a nine-digit identification number, which uniquely identifies business entities. Obtaining a DUNS number is easy and there is no charge. To obtain a DUNS number, access http://www.dunandbradstreet.com or call 1-866-705-5711.

For more information, see the CDC Web site at: http://www.cdc.gov/od/pgo/funding/pubcommt.htm. If your application form does not have a DUNS number field, please write your DUNS number at the top of the first page of your application, and/or include your DUNS number in your application cover letter.

Additional requirements that may require you to submit additional documentation with your application are listed in section “VI.2. Administrative and National Policy Requirements.”

IV.3. Submission Dates and Times

Application Deadline Date: April 26, 2005.

Explanation of Deadlines: Applications must be received in the CDC Procurement and Grants Office by 4 p.m. Eastern Time on the deadline date. If you submit your application by the United States Postal Service or commercial delivery service, you must ensure that the carrier will be able to guarantee delivery by the closing date and time. If CDC receives your submission after closing due to: (1) carrier error, when the carrier accepted the package with a guarantee for delivery by the closing date and time, or (2) significant weather delays or natural disasters, you will be given the opportunity to submit documentation of the carrier's guarantee. If the documentation verifies a carrier problem, CDC will consider the submission as having been received by the deadline.

This announcement is the definitive guide on application content, submission address, and deadline. It supersedes information provided in the application instructions. If your submission does not meet the deadline above, it will not be eligible for review, and will be discarded. You will be notified that you did not meet the submission requirements.

Electronic Submission: If you submit your application electronically with Grants.gov, your application will be electronically time/date stamped which will serve as receipt of submission. In turn, you will receive an e-mail notice of receipt when CDC receives the application. All electronic applications must be submitted by 4 p.m. Eastern Time on the application due date.

Paper Submission: CDC will not notify you upon receipt of your paper submission. If you have a question about the receipt of your LOI or application, first contact your courier. If you still have a question, contact the PGO-TIM staff at: 770-488-2700. Before calling, please wait two to three days after the submission deadline. This will allow time for submissions to be processed and logged.

IV.4. Intergovernmental Review of Applications

Executive Order 12372 does not apply to this program.

IV.5. Funding Restrictions

Restrictions, which must be taken into account while writing your budget, are as follows:

• Funds may not be used for research.

• Reimbursement of pre-award costs is not allowed.

• Budgets for each budget period should include travel costs for three staff: DELTA Project Coordinator, the applicant's evaluation contractor, and the applicant's executive director, to attend three 3-day planning and training meetings in Atlanta, Georgia with CDC staff, other cooperative agreement applicants, and the CDC-selected evaluation contractor. The applicant should also budget for extensive state-wide travel for the evaluation contractor to visit local fiscal agents and their CCRs in order to gain knowledge of their prevention programs and activities and train and provide technical assistance regarding evaluation and the development of the Intimate Partner Violence Progress Report and Prevention Plan. The applicant should also budget for travel for the evaluation contractor to support the DELTA Steering Committee in the development of the state-level Intimate Partner Violence Progress Report and Prevention Plan.

• For the first budget period, applicants shall contract with private nonprofit organizations (i.e., local fiscal agents) to maintain the continuity of the DELTA Program in CCRs that address IPV in local communities. Applicants shall request only the amount of funding these local fiscal agents will expend during the first budget period. These private nonprofit organizations shall be member agencies of these CCRs and understand that the DELTA Program is to be community-owned by the CCR and not agency-driven by the private nonprofit organization.

• During the first budget period, applicants shall designate between $50,000-$75,000 of the first year budget period's award to contract with an evaluator, approved by CDC, to assist with the development of the state and local versions of the Intimate Partner Violence Progress Report and Prevention Plan.

• Local fiscal agents are required to devote the equivalent of a seventy-five percent FTE to the implementation and evaluation of the DELTA Program at the local level.

• Applicants are required, at a minimum, to have the equivalent of one FTE assigned to DELTA Program programmatic activities.

• Funding may not be used for construction.

• Funding may be used to purchase computer equipment and software, and Internet connection equipment and software.

• Funding may not be used to provide direct services to victims or perpetrators of IPV.

• No more than 10 percent of local fiscal agent funding may be used to coordinate intervention services.

• Funding may not be used for intervention-oriented media or awareness campaigns that promote awareness of the problem of IPV or awareness of where to receive services.

• Funding may be used for prevention-oriented media or awareness campaigns that promote the protective factors at each level of the social ecology.

• DELTA Program funds may be used by local fiscal agents and their CCRs to adapt, develop, and produce prevention-focused educational materials, media campaigns, or curricula. It is required that the adaptation, development and production of such materials are based on the best available evidence input from representatives from the community for which the materials are developed. The representatives must be active participants in the adaptation, development, production, implementation and evaluation processes. It will be the applicant's responsibility to monitor this funding restriction.

Guidance for completing your budget can be found on the CDC Web site, at the following Internet address: http://www.cdc.gov/od/pgo/funding/budgetguide.htm.

IV.6. Other Submission Requirements

Application Submission Address:

Electronic Submission: CDC strongly encourages applicants to submit electronically at: http://www.Grants.gov. You will be able to download a copy of the application package from http://www.Grants.gov, complete it offline, and then upload and submit the application via the Grants.gov site. E-mail submissions will not be accepted. If you are having technical difficulties in Grants.gov they can be reached by E-mail at www.support@grants.gov or by phone at 1-800-518-4726 (1-800-518-GRANTS). The Customer Support Center is open from 7 a.m. to 9 p.m. Eastern Time, Monday through Friday.

Paper Submission: If you chose to submit a paper application, submit the original and two hard copies of your application by mail or express delivery service to:

Technical Information Management—RFA 05039, CDC Procurement and Grants Office, 2920 Brandywine Road, Atlanta, GA 30341.

V. Application Review Information

V.1. Criteria

Applicants are required to provide measures of effectiveness that will demonstrate the accomplishment of the various identified objectives of the cooperative agreement. Measures of effectiveness must relate to the performance goal stated in the “Purpose” section of this announcement: Increase the capacity of injury prevention and control programs to address the prevention of injuries and violence. Measures must be objective and quantitative, and must measure the intended outcome. Applicants are expected to develop four measures of effectiveness, one for each level of capacity-building as described in section IV.2. Content and Form of Submission. Measures of effectiveness will be an element of evaluation.

Your application will be evaluated against the following criteria:

a. Experience (25 points) in providing prevention-focused training and technical assistance to local CCRs and local fiscal agents (no more than two pages). Does the applicant demonstrate at least 18 months experience in providing prevention-focused training and technical assistance to local CCRs and local fiscal agents? Does the applicant clearly demonstrate that their training and technical assistance was prevention-focused, and not intervention focused? Does the applicant clearly demonstrate that their training and technical assistance included prevention principles, concepts and practices such as preventing first-time perpetration and first-time victimization; decreasing risk factors, increasing protective factors, evidence-based planning, theory, and evaluation? Does the applicant include two letters of support from local CCR members, each representing a different CCR, describing the prevention-focused training and technical assistance provided to them by the applicant over the past 18 months?

b. Experience (25 points) in funding and monitoring local fiscal agents and their CCRs regarding their implementation of prevention principles, concepts and practices (no more than 2 pages).

Does the applicant demonstrate at least 12 months experience in funding and monitoring local fiscal agents and their CCRs regarding their implementation of prevention principles, concepts and practices? Does the applicant adequately describe their funding process (from announcement of available funds, to review, to award)? Does the applicant adequately describe their monitoring process (reports required, site visits, products delivered)? Does the applicant provide a copy of the application used by the applicant to award funds to local fiscal agents and CCRs to implement prevention principles, concepts and practices?

c. Implementation Plan for DELTA Program (15 points): Local level. Does the applicant include a logic model's core elements:

• Inputs.

• Activities.

• Outputs.

• Initial outcomes.

• Intermediate outcomes.

• Influential factors.

• One performance measure of effectiveness (replaces traditional logic model's goal)?

Are each of these core elements adequately addressed? Does the applicant address each of the activities to build capacity in local CCRs:

• Prevention-focused training, technical assistance and funding.

• Training and technical assistance regarding community organization, CCR development and maintenance and strategic planning.

• Assistance to and monitoring of local fiscal agents and their CCRs in their development and publication of an Intimate Partner Violence Progress Report and Prevention Plan.

• Assisting local fiscal agents in institutionalizing prevention principles, concepts and practices within their own agencies.

• Use of evaluation contractor in the development of the Intimate Partner Violence Progress Report and Prevention Plan.

Is the applicant's implementation plan adequate to meet the short-term and intermediate outcomes listed in the logic model? Is the applicant's one performance measure of effectiveness objective, quantifiable, measurable and realistic? Can the proposed activities and outputs realistically lead to the outcomes proposed? Are the proposed activities and timelines (as described in the narrative) feasible?

d. Implementation plan for DELTA Program (15 points): State level. Does the applicant include a logic model's core elements:

• Inputs,

• Activities,

• Outputs,

• Initial outcomes,

• Intermediate outcomes,

• Influential factors and

• One performance measure of effectiveness (replaces traditional logic model's goal)?

Are each of these core elements adequately addressed? Does the applicant address each of the activities to build capacity across Applicant's state:

• Organize and facilitate a DELTA Steering Committee to develop and publish a state-level Intimate Partner Violence Progress Report and Prevention Plan.

• Develop a steering committee that is representative of the racial, ethnic and gender diversity within the state.

• Develop a steering committee that includes individuals who can inform the development and implementation of prevention activities and programs directed at men and boys.

• Use of evaluation contractor in the development of the Intimate Partner Violence Progress Report and Prevention Plan. Is the applicant's implementation plan adequate to meet the short-term and intermediate outcomes listed in the logic model? Is the applicant's one performance measure of effectiveness objective, quantifiable, measurable and realistic? Can the proposed activities and outputs realistically lead to the outcomes proposed? Are the proposed activities and timelines feasible?

e. Implementation plan for DELTA Program (10 points): Organizational level. Does the applicant include a logic model's core elements:

• Inputs,

• Activities,

• Outputs,

• Initial outcomes,

• Intermediate outcomes,

• Influential factors and

• One performance measure of effectiveness (replaces traditional logic model's goal)?

Are each of these core elements adequately addressed? Does the applicant address each of the activities to build capacity within Applicant's organization:

• Participate in training and technical assistance activities and opportunities provided by CDC;

• Institutionalize prevention principles, concepts and practices within their own organization;

• Monitor progress of local CCRs and their local fiscal agents;

• Attend and participate in technical assistance and planning meetings coordinated by CDC;

• Compile and disseminate DELTA Program results within their state;

• Is the applicant's implementation plan adequate to meet the short-term and intermediate outcomes listed in the logic model? Is the applicant's one performance measure of effectiveness objective, quantifiable, measurable and realistic? Can the proposed activities and outputs realistically lead to the outcomes and performance measure proposed? Are the proposed activities and timelines (as described in the narrative) feasible?

f. Implementation Plan for DELTA Program (5 points): National level. Does the applicant include a logic model's core elements:

• Inputs,

• Activities,

• Outputs,

• Initial outcomes,

• Intermediate outcomes,

• Influential factors and

• One performance measure of effectiveness (replaces traditional logic model's goal)?

Are each of these core elements adequately addressed? Does the applicant address each of the activities to build capacity across Applicant's state:

• Collaborate with CDC, other DELTA cooperative agreement applicants, and the CDC-selected evaluation/training contractors.

• Disseminate DELTA prevention principles, concepts and practices and lessons learned by presenting at a minimum of one state-wide conference that addresses IPV in non-DELTA states in Program Periods two and three.

• Disseminate DELTA prevention principles, concepts and practices and lessons learned by presenting at a minimum of one national conference that addresses IPV in Program Periods two and three.

• Attend and participate in the National Center for Injury Prevention and Control Conference in Washington, DC in 2007.

Is the applicant's implementation plan adequate to meet the short-term and intermediate outcomes listed in the logic model? Is the applicant's one performance measure of effectiveness objective, quantifiable, measurable and realistic? Can the proposed activities and outputs realistically lead to the outcomes proposed? Are the proposed activities and timelines feasible?

g. Applicant's Agreement (5 points) to use the definition of IPV provided in this RFA as the basis for DELTA Program activities and implementation. Does the applicant explicitly state their agreement to use the definition of IPV (i.e., continuum from episodic violence to battering) provided in this RFA as the basis for DELTA Program activities and implementation?

V.2. Review and Selection Process

Applications will be reviewed for completeness by the Procurement and Grants Office (PGO) staff, and for responsiveness by the National Center for Injury Prevention and Control. Incomplete applications and applications that are non-responsive to the eligibility criteria will not advance through the review process. Applicants will be notified that their application did not meet submission requirements.

An objective review panel will evaluate complete and responsive applications according to the criteria listed in the “V.1. Criteria” section above. Objective reviewers will be Federal employees who do not work within NCIPC and/or external experts with no conflict of interest regarding the outcome of the awarding process. Each complete and responsive application will have primary, secondary and tertiary reviewers. The objective review panel will meet to discuss and score each application based on the reviewers' comments.

In addition, the following factors may affect the funding decision:

• Maintaining geographic diversity (The authorizing statute, 42 U.S.C. 10418, requires that funding shall be awarded to organizations that are geographically dispersed throughout the country.)

• Preference will be given to applicants who have received funding in a previous project period.

CDC will provide justification for any decision to fund out of rank order.

V.3. Anticipated Announcement and Award Dates

Anticipated Announcement Date: May 15, 2005.

Anticipated Award Date(s): September 30, 2005 and January 30, 2006.

VI. Award Administration Information

VI.1. Award Notices

Successful applicants will receive a Notice of Grant Award (NGA) from the CDC Procurement and Grants Office. The NGA shall be the only binding, authorizing document between the applicant and CDC. The NGA will be signed by an authorized Grants Management Officer, and mailed to the applicant fiscal officer identified in the application.

Unsuccessful applicants will receive notification of the results of the application review by mail.

VI.2. Administrative and National Policy Requirements

45 CFR Part 74 and Part 92

For more information on the Code of Federal Regulations, see the National Archives and Records Administration at the following Internet address: http://www.access.gpo.gov/nara/cfr/cfr-table-search.html.

An additional Certifications form from the PHS5161-1 application needs to be included in your Grants.gov electronic submission only. Refer to http://www.cdc.gov/od/pgo/funding/PHS5161-1-Certificates.pdf. Once the form is filled out attach it to your Grants.gov submission as Other Attachments Form.

The following additional requirements apply to this project:

• AR-10 Smoke-Free Workplace Requirements.

• AR-11 Healthy People 2010.

• AR-12 Lobbying Restrictions.

• AR-13 Prohibition on Use of CDC Funds for Certain Gun Control Activities.

• AR-15 Proof of Non-Profit Status.

• AR-16 Security Clearance Requirement.

• AR-25 Release and Sharing of Data.

Additional information on these requirements can be found on the CDC Web site at the following Internet address: http://www.cdc.gov/od/pgo/funding/ARs.htm.

VI.3. Reporting Requirements

You must provide CDC with an original, plus two hard copies of the following reports:

1. Interim progress report, due no less than 90 days before the end of the budget period. The progress report will serve as your non-competing continuation application, and must contain the following elements:

a. Current Budget Period Activities Objectives (for first six months of budget period)

b. Current Budget Period Financial Progress.

c. New Budget Period Program Proposed Activity Objectives (provides updated logic models and narratives).

d. Budget.

e. Measures of Effectiveness.

f. Additional Requested Information.

2. Annual progress report, due 90 days after the end of the budget period.

a. Current Budget Period Activities Objectives (for second six months of budget period).

b. New Budget Period Program Proposed Activity Objectives (provides updated logic models and narratives).

c. Measures of Effectiveness.

d. Additional Requested Information.

3. Financial status report, due no more than 90 days after the end of the budget period.

4. Final financial and performance reports, no more than 90 days after the end of the project period.

These reports must be mailed to the Grants Management or Contract Specialist listed in the “Agency Contacts” section of this announcement.

VII. Agency Contacts

We encourage inquiries concerning this announcement.

For general questions, contact: Technical Information Management Section, CDC Procurement and Grants Office, 2920 Brandywine Road, Atlanta, GA 30341, Telephone: 770-488-2700.

For program technical assistance, contact: Pamela J. Cox, Project Officer, CDC, NCIPC, 4770 Buford Highway, NE., Mailstop K60, Atlanta, GA 30341, Telephone: 770-488-1206, Fax Number: 770-488-1360, Email: pcox@cdc.gov.

For financial, grants management, or budget assistance, contact: Angie Tuttle, Grants Management (Specialist, CDC Procurement and Grants Office), 2920 Brandywine Road, Atlanta, GA 30341, Telephone: 770/488-2719, E-mail: Aen4@cdc.gov.

VIII. Other Information

This and other CDC funding opportunity announcements can be found on the CDC Web site, Internet address: http://www.cdc.gov. Click on “Funding” then “Grants and Cooperative Agreements.”

Dated: February 18, 2005.
Alan A. Kotch,
Acting Deputy Director, Procurement and Grants Office, Centers for Disease Control and Prevention.

[FR Doc. 05-3633 Filed 2-24-05; 8:45 am]

BILLING CODE 4163-18-P